DEPARTMENT OF COMMERCE

National Oceanic and Atmospheric Administration

Agency Information Collection Activities; Submission to the Office of Management and Budget (OMB) for Review and Approval; Comment Request; Workplace Violence Prevention and Response Forms

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 27, 2023.

ADDRESSES: Interested persons are invited to submit written comments to Adrienne Thomas, NOAA PRA Officer, at NOAA.PRA@noaa.gov. Please reference OMB Control Number 0648-xxxx in the subject line of your comments. Do not submit Confidential Business Information or otherwise sensitive or protected information.

FOR FURTHER INFORMATION CONTACT: Requests for additional information or specific questions related to collection activities should be directed to Dr. Lisa Charles, Acting Director, Workplace Violence Prevention and Response, (202) 236-9672, and lisa.charles@noaa.gov.

SUPPLEMENTARY INFORMATION:

I. Abstract

This is a request for a new information collection.

This information collection will be used to document elements of the sexual assault/sexual harassment (SASH) response and/or reporting process and comply with procedures set up to effectively manage National Oceanic and Atmospheric Administration (NOAA), Workplace Violence Prevention and Response (WVPR). Under 33 U.S.C. 894, NOAA is required to establish a mechanism by which sexual assault and sexual harassment can be reported on a Restricted and Unrestricted basis. Further, Congress directs NOAA to reference Department of Defense (DoD) policy and procedures in the standup of our SASH response program. WVPR requires various Intake forms to document a victim's election of a Restricted or Unrestricted Report of sexual assault or sexual harassment, as well as document that the details of each reporting option have been properly communicated with the victim. WVPR has modeled its forms after the DoD sexual assault/sexual harassment forms in accordance with guidance by Congress. NOAA may also use this collection to survey federal employees, contractors, affiliates, interns, volunteers, or other individuals who work in or visit NOAA-occupied facilities, vessels, or aircraft to determine their perceptions of incidents of SASH, pursuant to NOAA Administrative Order (NAO) 202-1106, Section 5.01e.

II. Method of Collection

Information on this form will be collected using a paper format or electronically and requires the victim's signature either by ink pen or CAC.

III. Data

OMB Control Number: 0648-XXXX.

Form Number(s): None.

Type of Review: Regular submission, new information collection.

Affected Public: Individuals employed by NOAA including affiliates and contractors.

Estimated Number of Respondents: 500.

Estimated Time per Response: 60 minutes.

Estimated Total Annual Burden Hours: 500.

Estimated Total Annual Cost to Public: $0.

Respondent's Obligation: Voluntary.

Legal Authority: 33 U.S.C. 894.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-28149 Filed 12-23-22; 8:45 am]

BILLING CODE 3510-12-P